DEPARTMENT OF HOMELAND SECURITY

Bureau of Customs And Border Protection

[CBP Dec. 07-16]

Re-Accreditation of Intertek Caleb Brett Stolthaven Terminal as a Commercial Laboratory

AGENCY: Bureau of Customs and Border Protection, Department of Homeland Security.

ACTION: Notice of re-accreditation of Intertek Caleb Brett Stolthaven Terminal of Houston, Texas, as an accredited commercial laboratory.

SUMMARY: Notice is hereby given that, pursuant to 19 CFR 151.12, Intertek Caleb Brett Stolthaven Terminal, 15602 Jacintoport Boulevard, Houston, Texas 77015, has been re-accredited to test Petroleum and Petroleum Products entered under Chapters 27 and 29 of the Harmonized Tariff Schedule of the United States (HTSUS) for customs purposes, in accordance with the provisions of 19 CFR 151.12. Anyone wishing to employ this entity to conduct laboratory analysis should request and receive written assurances from the entity that it is accredited or approved by the Bureau of Customs and Border Protection to conduct the specific test requested. Alternatively, inquiries regarding the specific tests this entity is accredited to perform may be directed to the Bureau of Customs and Border Protection by calling (202) 344-1060. The inquiry may also be sent to http://www.cbp.gov/xp/cgov/import/operations_support/labs_scientific_ svcs/org_and_operations.xml.

DATES: The re-accreditation of Intertek Caleb Brett Stolthaven Terminal as an accredited laboratory became effective on February 17, 2005. The next triennial inspection date will be scheduled for February 2008.

FOR FURTHER INFORMATION CONTACT: Eugene J. Bondoc, Ph.D, or Randall Breaux, Laboratories and Scientific Services, Bureau of Customs and Border Protection, 1300 Pennsylvania Avenue, NW., Suite 1500N, Washington, DC 20229, 202-344-1060.

Dated: April 6, 2007.
Ira S. Reese,
Executive Director, Laboratories and Scientific Services.

[FR Doc. E7-6899 Filed 4-11-07; 8:45 am]

BILLING CODE 9111-14-P